DEPARTMENT OF STATE

[Public Notice 5774]

Announcement of Meetings of the International Telecommunication Advisory Committee

Summary: This notice announces meetings of the International Telecommunication Advisory Committee (ITAC) to prepare advice on U.S. positions for responses to: ITU letter of March 14, 2007 to Members of the Council regarding organizational changes within the General Secretariat and the Bureaux of the Sectors of the Union, ITU DM-07/1008 to the entire ITU membership regarding ITU's role on international public policy issues pertaining to the Internet and the management of Internet resources, and ITU DM-07/1003 to the entire ITU membership regarding the planning schedule for the fourth World Telecommunications Policy Forum on convergence and emerging policy issues.

The ITAC will meet on April 26, 2007 from 10-noon EDT at the offices of AT&T, 1120 20th Street, Washington, DC to start preparations for advice on three letters from the International Telecommunication Union.

This meeting is open to the public. Further information may be obtained from the Secretariat at minardje@state.gov, telephone 202 647-3234.

Dated: April 9, 2007.
Anne D. Jillson,
Foreign Affairs Officer, International Communications and Information Policy, Department of State.

[FR Doc. E7-7036 Filed 4-12-07; 8:45 am]

BILLING CODE 4710-07-P